DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Transformation Accountability Reporting System—(OMB No. 0930-0285) —Extension

The Transformation Accountability (TRAC) Reporting System is a real-time, performance management system that captures information on the substance abuse treatment and mental health services delivered in the United States. A wide range of client and program information is captured through TRAC for approximately 700 grantees. This request includes an extension of the currently approved data collection effort.

This information collection will allow SAMHSA to continue to meet the Government Performance and Results Act (GPRA) of 1993 reporting requirements that quantify the effects and accomplishments of its programs, which are consistent with OMB guidance. In order to carry out section 1105(a) (29) of GPRA, SAMHSA is required to prepare a performance plan for its major programs of activity. This plan must:

• Establish performance goals to define the level of performance to be achieved by a program activity;

• Express such goals in an objective, quantifiable, and measurable form;

• Briefly describe the operational processes, skills and technology, and the human, capital, information, or other resources required to meet the performance goals;

• Establish performance indicators to be used in measuring or assessing the relevant outputs, service levels, and outcomes of each program activity;

• Provide a basis for comparing actual program results with the established performance goals; and

• Describe the means to be used to verify and validate measured values.

In addition, this data collection supports the GPRA Modernization Act of 2010 which requires overall organization management to improve agency performance and achieve the mission and goals of the agency through the use of strategic and performance planning, measurement, analysis, regular assessment of progress, and use of performance information to improve the results achieved. Specifically, this data collection will allow CMHS to have the capacity to report on a consistent set of performance measures across its various grant programs that conduct each of these activities. SAMHSA's legislative mandate is to increase access to high quality substance abuse and mental health prevention and treatment services and to improve outcomes. Its mission is to improve the quality and availability of treatment and prevention services for substance abuse and mental illness. To support this mission, the Agency's overarching goals are:

• Accountability—Establish systems to ensure program performance measurement and accountability

• Capacity—Build, maintain, and enhance mental health and substance abuse infrastructure and capacity

• Effectiveness—Enable all communities and providers to deliver effective services

Each of these key goals complements SAMHSA's legislative mandate. All of SAMHSA's programs and activities are geared toward the achievement of these goals and performance monitoring is a collaborative and cooperative aspect of this process. SAMHSA will strive to coordinate the development of these goals with other ongoing performance measurement development activities.

The total annual burden estimate is shown below:

Estimates of Annualized Hour Burden
CMHS client outcome measures for discretionary programs
Type of response | Number of respondents | Responses per respondent | Total responses | Hours per response | Total hour burden | Hourly wage cost | Total hour cost
Client-level baseline interview | 15,681 | 1 | 15,681 | 0.48 | 7,527 | ¹$15 | $112,903
Client-level 6-month reassessment interview | 10,637 | 1 | 10,637 | 0.367 | 3,904 | 15 | 58,557
Client-level discharge interview ² | 4,508 | 1 | 4,508 | 0.367 | 1,776 | 15 | 26,644
Client-level baseline chart abstraction ³ | 2,352 | 1 | 2,352 | 0.1 | 235 | 15 | 3,528
Client-level reassessment chart abstraction ⁴ | 8,703 | 1 | 8,703 | 0.1 | 870 | 15 | 13,055
Client-level discharge chart abstraction ⁵ | 8,241 | 1 | 8,241 | 0.1 | 824 | 15 | 12,362
Client-level Subtotal ⁶ |  |  |  |  | 15,137 | 15 | 227,048
Infrastructure development, prevention, and mental health promotion quarterly record abstraction | 942 | 4 | 3,768 | 4 | 15,072 | ⁷ 35 | 527,520
Total | 16,623 |  |  |  | 29,298 |  | 885,135
¹ Based on minimum wage.
² Based on an estimate that 35 percent will leave the program annually, and it will be possible to conduct discharge interviews on 40 percent of those who leave the program.
³ Based on 13 percent non-response for those eligible at baseline (18,033); baselines are required for all consumers served or an admin baseline for non-responders.
⁴ Based on 40 percent non-response for those eligible for six-month reassessment.
⁵ Based on 60 percent non-response for those discharged.
⁶ This is the maximum burden if all consumers complete the baseline and periodic reassessment interviews.
⁷ To be completed by grantee Project Directors, hence the higher hourly wage.

Written comments and recommendations concerning the proposed information collection should be sent by March 21, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-03622 Filed 2-15-13; 8:45 am]

BILLING CODE 4162-20-P